DEPARTMENT OF ENERGY

Federal Energy Regulatory Commission

[Project No. 11588-001, Alaska]

Alaska Power & Telephone Company; Notice of Availability of Final Environmental Assessment

May 21, 2002.

In accordance with the National Environmental Policy Act of 1969 and the Federal Energy Regulatory Commission's (Commission) regulations, 18 CFR part 380 (Order No. 486, 52 FR 47897), the Office of Energy Projects has reviewed the application for an original license for Alaska Power and Telephone Company's proposed Otter Creek Hydroelectric Project, and has prepared a Final Environmental Assessment (FEA). The proposed project would be located on Kasidaya Creek, at Taiya Inlet, 3 miles south of the City of Skagway, and 12 miles southwest of the City of Haines, Alaska. The proposed project would occupy approximately 6.0 acres of land within the Tongass National Forest, administered by the U.S. Forest Service (Forest Service).

On December 26, 2001, the Commission staff issued a draft environmental assessment (DEA) for the project and requested that comments be filed with the Commission within 45 days. Comments on the DEA were filed by the Forest Service, the United States Department of the Interior, State of Alaska Department of Fish and Game, and Alaska Power & Telephone Company and are addressed in the FEA.

This FEA contains the Commission staff's analysis of the potential future environmental impacts of the project and has concluded that licensing the project, with appropriate environmental protective measures, would not constitute a major federal action that would significantly affect the quality of the human environment.

Copies of the FEA are available for review in the Public Reference Room, Room 2A, of the Commission's offices at 888 First Street, NE, Washington, DC 20426. This filing is available for review at the Commission or may be viewed on the Commission's Web site at http://www.ferc.gov using the “RIMS” link, select “Docket #” and follow the instructions (call 202-208-2222 for assistance). For further information, contact Gaylord Hoisington, Project Coordinator, at (202) 219-2756.

Magalie R. Salas,
Secretary.

[FR Doc. 02-13236 Filed 5-24-02; 8:45 am]

BILLING CODE 6717-01-P